DEPARTMENT OF THE INTERIOR

National Park Service

[NPS-WASO-NAGPRA-NPS0028307; PPWOCRADN0-PCU00RP14.R50000]

Notice of Inventory Completion: Department of Anthropology, University of Alaska Anchorage, Anchorage, AK

AGENCY: National Park Service, Interior.

ACTION: Notice.

SUMMARY: The Department of Anthropology, University of Alaska Anchorage has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of Alaska Anchorage. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of Alaska Anchorage at the address in this notice by August 19, 2019.

ADDRESSES: Dr. John Stalvey, Interim Provost, University of Alaska Anchorage, 3211 Providence Drive, Anchorage, AK 99508, telephone (907) 786-1050, email Jstalvey@alaska.edu.

SUPPLEMENTARY INFORMATION: Notice is here given in accordance with the Native American Graves Protection and Repatriation Act (NAGPRA), 25 U.S.C. 3003, of the completion of an inventory of human remains under the control of the Department of Anthropology, University of Alaska Anchorage, Anchorage, AK. The human remains were removed from Aishishik Point site, Umnak Island, and Anangula Village Site, Ananiuliak Island, Aleutians West Borough, AK.

This notice is published as part of the National Park Service's administrative responsibilities under NAGPRA, 25 U.S.C. 3003(d)(3). The determinations in this notice are the sole responsibility of the museum, institution, or Federal agency that has control of the Alaska Native human remains. The National Park Service is not responsible for the determinations in this notice.

Consultation

A detailed assessment of the human remains was made by the Department of Anthropology, University of Alaska Anchorage professional staff in consultation with representatives of the Native Village of Nikolski.

History and Description of the Remains

In 1968, human remains representing, at minimum, one individual were removed by Alaska Department of Fish and Game personnel from Aishishik Point site, northern Umnak Island, in Aleutians West Borough, AK. The human remains include a skull fragment, right femur, and partial left femur. The human remains were donated to the Laboratory of Anthropology, Alaska Methodist University shortly thereafter. In 1976, the human remains were transferred to the University of Alaska Anchorage. No known individuals were identified. No associated funerary objects are present.

Based on test excavations, the site was occupied between ca. 1500 years ago and protohistoric times. The Unangax (Aleut) people are the only people to have lived in the Aleutian Islands before European Contact. The Unangax still live in their traditional region.

In an unknown year, human remains representing, at minimum, two individuals were removed by BIA archeologist Neil Crozier from Anangula Village Site, Ananiuliak Island, Nikolski Bay, in the Aleutians West Borough, AK. No known individuals were identified. No associated funerary objects are present.

The Anangula village has a multi-thousand year history of occupation by ancestral Aleuts. The Unangax (Aleut) people are the only people to have lived in this area before European contact.

Determinations Made by the Department of Anthropology, University of Alaska Anchorage

Officials of the Department of Anthropology, University of Alaska Anchorage have determined that:

• Pursuant to 25 U.S.C. 3001(9), the human remains described in this notice represent the physical remains of three individuals of Alaska Native ancestry.

• Pursuant to 25 U.S.C. 3001(2), there is a relationship of shared group identity that can be reasonably traced between the Alaska Native human remains and the Native Village of Nikolski.

Additional Requestors and Disposition

Lineal descendants or representatives of any Indian Tribe or Native Hawaiian organization not identified in this notice that wish to request transfer of control of these human remains should submit a written request with information in support of the request to Dr. John Stalvey, Interim Provost, University of Alaska Anchorage, 3211 Providence Drive, Anchorage, AK 99508, telephone (907) 786-1050, email Jstalvey@alaska.edu, by August 19, 2019. After that date, if no additional requestors have come forward, transfer of control of the human remains to the Native Village of Nikolski may proceed.

The Department of Anthropology, University of Alaska Anchorage is responsible for notifying the Native Village of Nikolski that this notice has been published.

Dated: June 25, 2019.
Melanie O'Brien,
Manager, National NAGPRA Program.

[FR Doc. 2019-15433 Filed 7-18-19; 8:45 am]

BILLING CODE 4312-52-P